POSTAL SERVICE

Sunshine Act Meetings

TIME AND DATE: Thursday, February 5, 2026, at 9:00 a.m.; Thursday, February 5, 2026, at 3:00 p.m.

PLACE: Washington, DC, at U.S. Postal Service Headquarters, 475 L'Enfant Plaza SW, in the Benjamin Franklin Room.

STATUS: Thursday, February 5, 2026, at 9:00 a.m.—Closed. Thursday, February 5, 2026, at 3:00 p.m.—Open.

MATTERS TO BE CONSIDERED:

Meeting of the Board of Governors

Thursday, February 5, 2026, at 9:00 a.m. (Closed)

1. Strategic Matters.

2. Financial and Operational Matters.

3. Administrative Matters.

Thursday, February 5, 2026, at 3:00 p.m. (Open)

1. Remarks of the Chairwoman of the Board of Governors.

2. Remarks of the Postmaster General and CEO.

3. Committee Reports.

4. Quarterly Financial Report.

5. Quarterly Service Performance Report.

6. Approval of the Meeting Minutes.

7. Approval of Tentative Agenda for May 7 Open Meeting.

General Counsel Certification: The General Counsel of the United States Postal Service has certified that the meeting may be closed under the Government in the Sunshine Act, 5 U.S.C. 552b.

CONTACT PERSON FOR MORE INFORMATION: Lucy C. Trout, Secretary of the Board of Governors, U.S. Postal Service, 475 L'Enfant Plaza SW, Washington, DC 20260-1000. Telephone: (202) 268-4800.

Lucy C. Trout,
Secretary.

[FR Doc. 2026-01492 Filed 1-22-26; 4:15 pm]

BILLING CODE 7710-12-P